DEPARTMENT OF HEALTH AND HUMAN SERVICES

National Institutes of Health

Center for Scientific Review; Amended Notice of Meeting

Notice is hereby given of a change in the meeting of the Center for Scientific Review Special Emphasis Panel, June 17, 2005, 12 p.m. to June 17, 2005, 5 p.m., Churchill Hotel, 1914 Connecticut Avenue, NW., Washington, DC 20009 which was published in the Federal Register on May 11, 2005, 70 FR 24829-24832.

The starting time of the meeting on June 17, 2005, has been changed to 11 a.m. until adjournment. The meeting date and location remain the same. The meeting is closed to the public.

Dated: June 7, 2005.
LaVerne Y. Stringfield,
Director, Office of Federal Advisory Committee Policy.

[FR Doc. 05-11906 Filed 6-15-05; 8:45 am]

BILLING CODE 4140-01-M